DEPARTMENT OF ENERGY

Federal Energy Regulatory Commission

[Docket No. CP06-402-000]

Mardi Gras Pipeline, L.L.C.; Notice of Application

June 30, 2006.

Take notice that on June 21, 2006, Mardi Gras Pipeline, L.L.C. (Mardi Gras), 226 E. Gibson Street, Covington, Louisiana 70433, filed with the Commission an application under section 7 (c) of the Natural Gas Act to obtain a limited jurisdictional certificate to allow for the continued service to a single interstate gas transportation customer, and for a determination that Mardi Gras may otherwise operate its system as a non-jurisdictional gathering facility. This filing is available for review at the Commission in the Public Reference Room or may be viewed on the Commission's Web site Web at http://www.ferc.gov using the “eLibrary” link. Enter the docket number excluding the last three digits in the docket number field to access the document. For assistance, contact FERC at FERCOnlineSupport@gerc.gov or call toll-free, (886) 208-3676 or TYY, (202) 502-8659.

Any questions regarding the petition should be directed to John S. Burge, Mardi Gras Pipeline, L.L.C., P.O. Box 974 Covington, LA 70434-0974, and Tel: (985) 893-5883 or e-mail JBurge@progasinc.com, or you may contact Robert Christin, Van Ness Feldman, P.C., 1050 Thomas Jefferson Street, NW., Suite 700 Washington, DC 20007, and Tel.: (202) 298-1987 or Fax: (202) 338-2416 or RFC@.vnf.com.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's Web site under the “e-Filing” link. The Commission strongly encourages electronic filings.

Comment Date: July 21, 2006.

Magalie R. Salas,
Secretary.

[FR Doc. E6-10688 Filed 7-7-06; 8:45 am]

BILLING CODE 6717-01-P